DEPARTMENT OF ENERGY

Federal Energy Regulatory Commission

Combined Notice of Filings #2

Take notice that the Commission received the following electric corporate filings:

Docket Numbers: EC16-119-000.

Applicants: Beech Ridge Energy LLC, Beech Ridge Energy II LLC, Beech Ridge Energy Storage LLC, Bethel Wind Farm LLC, Bishop Hill Energy III LLC, Bishop Hill Interconnection LLC, Buckeye Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Peak View Wind Energy LLC, Prairie Breeze Wind Energy II LLC, Prairie Breeze Wind Energy III LLC, Sheldon Energy LLC, Spring Canyon Energy LLC, Stony Creek Energy LLC, Vantage Wind Energy LLC, Willow Creek Energy LLC, Wolverine Creek Energy LLC, Wolverine Creek Goshen Interconnection LLC.

Description: Application for Authorization Under Section 203 of the Federal Power Act and Request for Waivers and Expedited Action of Beech Ridge Energy LLC, et al.

Filed Date: 5/12/16.

Accession Number: 20160512-5193.

Comments Due: 5 p.m. ET 6/2/16.

Take notice that the Commission received the following electric rate filings:

Docket Numbers: ER16-236-002.

Applicants: Public Service Company of Colorado.

Description: Compliance filing: 2016-5-12 Att SPS/PSCo ADIT Filing to be effective 1/1/2016.

Filed Date: 5/12/16.

Accession Number: 20160512-5197.

Comments Due: 5 p.m. ET 6/2/16.

Docket Numbers: ER16-239-002.

Applicants: Public Service Company of Colorado.

Description: Compliance filing: 20160512_ER16-239 ADIT Compliance Filing to be effective 1/1/2016.

Filed Date: 5/12/16.

Accession Number: 20160512-5207.

Comments Due: 5 p.m. ET 6/2/16.

Docket Numbers: ER16-551-002

Applicants: ISO New England Inc.

Description: Compliance filing: 30-Day Compliance Filing to Establish Materiality Threshold for Retirement Bids to be effective 3/1/2016.

Filed Date: 5/12/16.

Accession Number: 20160512-5191.

Comments Due: 5 p.m. ET 6/2/16.

Docket Numbers: ER16-736-002.

Applicants: PJM Interconnection, L.L.C.

Description: Tariff Amendment: Response to Deficiency Notice issued 4/12/2016 in Docket No. ER16-736-001 to be effective 4/14/2016.

Filed Date: 5/12/16.

Accession Number: 20160512-5212.

Comments Due: 5 p.m. ET 6/2/16.

Docket Numbers: ER16-1226-000.

Applicants: New Covert Generating Company, LLC.

Description: Supplement to March 18, 2016 New Covert Generating Company, LLC tariff filing.

Filed Date: 5/12/16.

Accession Number: 20160512-5215.

Comments Due: 5 p.m. ET 6/2/16.

Docket Numbers: ER16-1682-000.

Applicants: Public Service Company of Colorado.

Description: Compliance filing: 20160512 ER16-239 ADIT Filing to be effective 4/16/2016.

Filed Date: 5/12/16.

Accession Number: 20160512-5176.

Comments Due: 5 p.m. ET 6/2/16.

Docket Numbers: ER16-1683-000.

Applicants: Wolverine Power Supply Cooperative, Inc.

Description: Section 205(d) Rate Filing: Van Tyle Station Transmission Facilities Agreement to be effective 5/5/2016.

Filed Date: 5/12/16.

Accession Number: 20160512-5182.

Comments Due: 5 p.m. ET 6/2/16.

Docket Numbers: ER16-1684-000.

Applicants: Idaho Power Company.

Description: Section 205(d) Rate Filing: Concurrence—Construction Agreement w/PAC Goshen-Jefferson 161 kV Line Rebuild to be effective 7/11/2016.

Filed Date: 5/12/16.

Accession Number: 20160512-5184.

Comments Due: 5 p.m. ET 6/2/16.

Docket Numbers: ER16-1685-000.

Applicants: Escalante Solar II, LLC.

Description: Compliance filing: Compliance Filing—Amendment to MBR Tariff Limits and Exemptions to be effective 7/11/2016.

Filed Date: 5/12/16.

Accession Number: 20160512-5192.

Comments Due: 5 p.m. ET 6/2/16.

Docket Numbers: ER16-1686-000.

Applicants: Public Service Company of Colorado.

Description: Compliance filing: Attachment O-PSCo_SPS ADIT Compliance filing to be effective 4/16/2016.

Filed Date: 5/12/16.

Accession Number: 20160512-5202.

Comments Due: 5 p.m. ET 6/2/16.

Docket Numbers: ER16-1687-000.

Applicants: PJM Interconnection, L.L.C.

Description: Section 205(d) Rate Filing: Original WMPA SA No. 4458, Queue No. AA1-110 to be effective 4/27/2016.

Filed Date: 5/12/16.

Accession Number: 20160512-5219.

Comments Due: 5 p.m. ET 6/2/16.

Docket Numbers: ER16-1688-000.

Applicants: Southern California Edison Company.

Description: Section 205(d) Rate Filing: Three Amended SGIA's & DSA's w/Golden Springs Development Company to be effective 1/1/2016.

Filed Date: 5/12/16.

Accession Number: 20160512-5225.

Comments Due: 5 p.m. ET 6/2/16.

Take notice that the Commission received the following qualifying facility filings:

Docket Numbers: QF16-784-000.

Applicants: Energy Partners II, LLC.

Description: Form 556 of Energy Partners II, LLC.

Filed Date: 5/2/16.

Accession Number: 20160502-5397.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2016.
Nathaniel J. Davis, Sr.,
Deputy Secretary.

[FR Doc. 2016-11711 Filed 5-17-16; 8:45 am]

BILLING CODE 6717-01-P